SMALL BUSINESS ADMINISTRATION

[Disaster Declaration #12909 and #12910]

Virginia Disaster Number VA-00037

AGENCY: U.S. Small Business Administration.

ACTION: Amendment 3.

SUMMARY: This is an amendment of the Presidential declaration of a major disaster for the Commonwealth of Virginia (FEMA-4042-DR), dated 11/04/2011.

Incident: Earthquake.

Incident Period: 08/23/2011 through 10/25/2011.

Effective Date: 02/01/2012.

Physical Loan Application Deadline Date: 03/05/2012.

EIDL Loan Application Deadline Date: 08/06/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Presidential disaster declaration for the Commonwealth of Virginia, dated 11/04/2011 is hereby amended to include the following areas as adversely affected by the disaster:

Primary Counties: (Physical Damage and Economic Injury Loans) Albemarle, King George.

Contiguous Counties: (Economic Injury Loans Only) Virginia:

Augusta, Charlottesville City, Essex, Nelson, Rockingham, Westmoreland.

All other information in the original declaration remains unchanged.

(Catalog of Federal Domestic Assistance Numbers 59002 and 59008.)

Jane M. D. Pease,
Acting Associate Administrator for Disaster Assistance.

[FR Doc. 2012-3084 Filed 2-9-12; 8:45 am]

BILLING CODE 8025-01-P